DEPARTMENT OF THE INTERIOR

National Park Service

[NPS-NER-ACAD-36707; PPNEACADSO, PPMPSPDIZ.YM0000]

Notice of Public Meetings for the Acadia National Park Advisory Commission

AGENCY: National Park Service, Interior.

ACTION: Meeting notice.

SUMMARY: In accordance with the Federal Advisory Committee Act, as amended, the National Park Service (NPS) is hereby giving notice that the Acadia National Park Advisory Commission (Commission) will meet as indicated below.

DATES: The Commission will meet: Monday, February 5, 2024; Monday, June 3, 2024; and Monday, September 9, 2024. All scheduled meetings will begin at 1 p.m. and will end by 4 p.m. (Eastern).

ADDRESSES: The February 5, 2024, and June 3, 2024, meetings will be held at the headquarters conference room, Acadia National Park, 20 McFarland Hill Drive, Bar Harbor, Maine 04609. The September 9, 2024, meeting will be held at the Schoodic Education and Research Center, Winter Harbor, Maine 04693. All three meetings will also be held virtually for those who are unable to attend in person and will be closed captioned.

FOR FURTHER INFORMATION CONTACT: Kathy Flanders, Superintendent's Secretary, Acadia National Park, P.O. Box 177, Bar Harbor, Maine 04609, telephone (207) 288-8702 or kathy_flanders@nps.gov. The format of the FY 2024 meetings and locations are subject to change, pending the COVID-19 pandemic and safety requirements. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Commission was established by section 103 of Public Law 99-420, as amended, (16 U.S.C. 341 note), and in accordance with the Federal Advisory Committee Act (5 U.S.C. Ch 10). The Commission advises the Secretary of the Interior and the NPS on matters relating to the management and development of Acadia National Park, including but not limited to, the acquisition of lands and interests in lands (including conservation easements on islands) and the termination of rights of use and occupancy.

The meetings are open to the public. Interested persons may make oral presentations to the Commission. Such requests should be made to the Superintendent at the beginning of the meeting. Depending on the number of persons wishing to speak, and the time available, the time for individual comments may be limited. Written comments can be sent to Kathy Flanders [see FOR FURTHER INFORMATION CONTACT]. All comments received will be provided to the Commission.

The Commission meeting locations may change based on inclement weather or exceptional circumstances. If a meeting location is changed, the Superintendent will issue a press release and use local newspapers to announce the change. Detailed minutes of the meeting will be available for public inspection within 90 days of the meeting.

Purpose of the Meeting: The Commission meeting will consist of the following proposed agenda items:

1. Superintendent's Report

2. Committee Reports:

Land Conservation

Park Use

Science and Education

Historic

3. Old Business

4. New Business

5. Chairman's Report

6. Public Comments

7. Adjournment

Meeting Accessibility/Special Accommodations: The meeting is open to the public. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Information: Before including your address, phone number, email address, or other personal identifying information in your comments, you should be aware that your entire comment—including your personal identifying information—may be made publicly available at any time. While you can ask us in your comment to withhold your personal identifying information from public review, we cannot guarantee that we will be able to do so.

(Authority: 5 U.S.C. Ch 10.)

Alma Ripps,
Chief, Office of Policy.

[FR Doc. 2023-25250 Filed 11-15-23; 8:45 am]

BILLING CODE 4312-52-P